DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before July 14, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on June 2, 2025.
Donald P. Burger,
Chief, General Approvals and Permits Branch.

Special Permits Data
Application No. | Applicant | Regulation(s) affected | Nature of the special permits thereof
22007-N | Exolaunch, Inc | 173.301(f)(1), 173.304(a) | To authorize the transportation in commerce of non-DOT specification cylinders containing nitrous oxide that are not equipped with a pressure relief device. (mode 1).
22008-N | Beta Technologies, Inc | 172.101(j) | To authorize the transportation in commerce of lithium batteries exceeding 35 kg by cargo-only aircraft. (mode 4).
22009-N | Garrett Transfer and Storage, Inc | 173.196(a), 173.196(b), 173.199, 178.609 | To authorize the transportation of certain Division 6.2 infectious substances and biological substances in alternative packaging (freezers). (mode 1).
22010-N | Thales Alenia Space | 172.101(j), 172.300, 172.400, 173.301(f), 173.302a(a)(1), 173.304a(a)(1) | To authorize the transportation in commerce of specially designed non-DOT specification containers (satellite assemblies) for use in specialty cooling applications. (modes 1, 3, 4).
22014-N | Starfish Space Inc | 172.203(a), 172.301(c), 172.400, 173.301(f)(1), 173.302a(a)(1), 173.304a(a)(1) | To authorize the transportation in commerce of non-DOT specification cylinders that are not equipped with pressure relief devices and which are further incorporated into an orbital spacecraft. (mode 1).
22015-N | Small Business Administration | 172.101(j) | To authorize the transportation in commerce of lithium batteries exceeding 35 kg by cargo-only aircraft. (mode 4).
22017-N | Starfire Corporation | 173.56(b) | To authorize the transportation in commerce of explosives that have not been examined and classified in accordance with 49 CFR 173.56(b). (mode 1).
22019-N | Explosives Test Center, LLC | 172.203(a), 172.301(c), 173.56(b), 173.64(a)(3), 173.65(a) | To authorize a DOT-approved Firework Certification Agency (FCA) to certify Division 1.3 and Division 1.4 fireworks manufactured in accordance with the applicable requirements in APA 87-1B or APA 87-1C, as applicable. (modes 1, 2, 3, 4).
22021-N | Koch Fertilizer Dodge City, LLC | 172.203(a), 172.302(b), 172.302(c), 173.315(l)(5) | To authorize real time Near Infrared Spectroscopy (NIRS) technology as an alternative testing method for determining minimum water content used in the transportation of anhydrous ammonia. (modes 1, 2).
22022-N | Snatch-It LLC | 173.306(a)(1) | To authorize the transportation in commerce of 2P inner containers containing butane as a limited quantity when the capacity of the receptacle exceeds 4 fluid ounces. (modes 1, 2).
22024-N | The Sherwin-Williams Company | 172.200, 172.300, 172.400, 172.500, | To authorize the transportation in commerce of IBCs containing certain hazardous materials 1,000 feet on a public highway without being subject to hazard communication requirements. (mode 1).
22025-N | Bhiwadi Cylinders Private Limited | 173.304(d), 178.33d-2 | To authorize the manufacture, mark, sale, and use of non-DOT specification inner receptacles with a larger diameter and increased working pressure like 2Q Variation 1 inner receptacles. (modes 1, 3, 4, 5).
22026-N | Pushback Limited | 172.200, 172.400, 172.500, 173.302a(a)(1), 174.1, 177.800 | To authorize the transportation in commerce of DOT 2Q inner containers containing gases not otherwise authorized in that packaging type. (modes 1, 2, 3, 4, 5).
22027-N | Busek Co., Inc | 173.301(f)(1), 173.302a(a)(1) | To authorize the transportation in commerce of spacecraft and/or spacecraft components comprised on non-DOT specification cylinders that are not equipped with pressure relief devices. (modes 1, 2, 3, 4, 5).
22028-N | Prescott Support Company | 172.101(j), 173.27, 173.243 | To authorize the transportation in commerce of fuel in non-DOT specification packaging via cargo-only aircraft exceeding the quantity limits specified in the Hazardous Materials Table. (mode 4).
22029-N | Gas Transport Leasing—GTL, LLC | 173.301(f)(1), 173.302a(a)(1) | To authorize the transportation in commerce of hydrogen in module assemblies of non-DOT specification cylinders manufactured under DOT-SP 14576 that are not equipped with pressure relief devices. (mode 1).
22031-N | Store and Plus, Corp | 171.2(k), Part 172 Subparts C, D, E, F, and H | To authorize the transportation in commerce of certain DOT 3AL, TC/3ALM, and UN ISO 7866 cylinders, with alternative hazard communication. (modes 1, 2).
22033-N | Porsche Logistik GmbH | 172.101(j) | To authorize the transportation in commerce of lithium batteries exceeding 35 kg by cargo-only. (mode 4).
22034-N | Exel Inc | 173.4a(g)(2) | To authorize the transportation in commerce of packages with a reduced size limited quantity marking below the tracking label. (modes 1, 2).
22036-N | Porsche Logistik GmbH | 107.101(j) | To authorize the transportation in commerce of lithium batteries exceeding 35 kg by cargo-only. (mode 4).

[FR Doc. 2025-10721 Filed 6-11-25; 8:45 am]

BILLING CODE 4910-60-P